DEPARTMENT OF HEALTH AND HUMAN SERVICES

Centers for Medicare & Medicaid Services

42 CFR Chapter IV

[CMS-1206-N]

RIN 0938-ZA31

Medicare Program; Town Hall Meeting on Payment for Certain Drugs, Biologicals, and Devices under the Hospital Outpatient Prospective Payment System for Calendar Year 2003

AGENCY: Centers for Medicare & Medicaid Services (CMS), HHS.

ACTION: Notice of meeting.

SUMMARY: This notice announces a town hall meeting to discuss the payment for drugs, biologicals, and devices that are eligible for transitional pass-through payments under the hospital outpatient prospective payment system (OPPS) for calendar year 2003. Specifically, the meeting will focus on how the cost of drugs, (including radiopharmaceuticals), biologicals, and devices should be recognized under the hospital OPPS. Providers, physicians, hospitals, coding specialists, and other interested parties are invited to this meeting to present their views on these issues. We will consider the opinions and advice provided during this meeting as we prepare our annual proposed rule that would update the OPPS. The meeting is open to the public, but attendance is limited to space available.

DATE: Meeting Date: The town hall meeting announced in this notice will be held on Friday, April 5, 2002, from 9:30 a.m. to 3:30 p.m. (eastern standard time).

ADDRESSES: The town hall meeting will be held in the multipurpose room at the Centers for Medicare & Medicaid Services, 7500 Security Boulevard, Baltimore, MD 21244.

FOR FURTHER INFORMATION CONTACT: Roechel Kujawa, (410) 786-9111. You may also send inquiries about this meeting via e-mail to outpatientpps@cms.hhs.gov.

SUPPLEMENTARY INFORMATION:

I. Background

The Balanced Budget Act of 1997 (Pub. L. 105-33), enacted on August 5, 1997, amended the Social Security Act (the Act) by adding section 1833(t) to the Act. This section authorized the implementation of a hospital outpatient prospective payment system (OPPS) for hospital outpatient services.

The OPPS is comprised of ambulatory payment classification groups, relative weights, and payment rates. The Balanced Budget Refinement Act of 1999 (Pub. L. 106-113), enacted on November 29, 1999, amended section 1833(t)(6) of the Act. This section authorized transitional pass-through payments for certain drugs, biologicals, and devices. These drugs, biologicals, and devices include those that were not being paid for as a hospital outpatient service as of December 31, 1996 and for which the cost is not insignificant in relation to the OPPS payment for the procedures associated with the drug, biological, or device. The Medicare, Medicaid and SCHIP Benefits Improvement and Protection Act of 2000 (Pub. L. 106-554), enacted on December 21, 2000, amended this provision to permit transitional pass-through payment for some older devices as well. By statute, transitional pass-through payment status extends at least 2 years, but no more than 3 years. Beginning January 1, 2003, almost all of the items that are eligible for transitional pass-through payments will reach the end of their eligibility for pass-through payments. Therefore, their costs must be recognized through other means under the OPPS. Participants at the town hall meeting are invited to share their opinions about how these items should be treated under the OPPS for calendar year (CY) 2003.

II. Meeting Format

The meeting will begin with an introduction of the OPPS, focusing on the treatment of transitional passthrough payments for drugs, biologicals, and devices under the OPPS for CY 2003. The remainder of the meeting will be reserved for statements from interested parties on this issue.

We will limit the time for participants to make a statement according to the number of registered participants. Individuals who wish to make a statement must contact Roechel Kujawa as soon as possible. Those individuals must subsequently mail their written submission no later than 5 p.m., Monday, April 1, 2002. Send written submissions to: Roechel Kujawa, Division of Outpatient Care, Center for Medicare Management, Centers for Medicare & Medicaid Services, 7500 Security Boulevard, Mail Stop C4-05-25, Baltimore, Maryland 21244. All written submissions must be received no later than 5 p.m., Monday, April 1, 2002, at the above address. Comments from individuals not registered to speak will be heard after scheduled statements, if time permits.

III. Registration Instructions

The Division of Outpatient Care is coordinating meeting registration. While there is no registration fee, all individuals must register to attend. Because this meeting will be located on Federal property, for security reasons, any persons wishing to attend this meeting must call Roechel Kujawa to register at least 72 hours in advance. Attendees must show photographic identification to the Federal Protective Service or Guard Service personnel before they will be permitted to enter the building. Individuals who have not registered in advance will not be allowed to enter the building to attend the meeting. Seating capacity is limited to the first 250 registrants.

Individuals requiring sign language interpretation for the hearing impaired or other special accommodations should contact Roechel Kujawa at least 10 days before the meeting.

Authority: Section 1833(t) of the Social Security Act (42 U.S.C. 1395l(t))

(Catalog of Federal Domestic Assistance Program No. 93.773, Medicare—Hospital Insurance; and Program No. 93.774, Medicare—Supplementary Medical Insurance Program)

Dated: March 12, 2002.
Thomas A. Scully,
Administrator, Centers for Medicare & Medicaid Services.

[FR Doc. 02-6578 Filed 3-15-02; 8:45 am]

BILLING CODE 4120-01-P